DEPARTMENT OF ENERGY

Federal Energy Regulatory Commission

Combined Notice of Filings

Take notice that the Commission has received the following Natural Gas Pipeline Rate and Refund Report filings:

Filings Instituting Proceedings

Docket Numbers: RP19-286-000.

Applicants: Rager Mountain Storage Company LLC.

Description: § 4(d) Rate Filing: RMSC's Clean-Up Filing—November 2018 to be effective 12/15/2018.

Filed Date: 11/14/18.

Accession Number: 20181114-5025.

Comments Due: 5 p.m. ET 11/26/18.

Docket Numbers: RP19-287-000.

Applicants: Equitrans, L.P.

Description: § 4(d) Rate Filing: Equitrans' Clean-Up Filing—November 2018 to be effective 10/1/2018.

Filed Date: 11/14/18.

Accession Number: 20181114-5032.

Comments Due: 5 p.m. ET 11/26/18.

Docket Numbers: RP19-288-000.

Applicants: Elba Express Company, L.L.C.

Description: § 4(d) Rate Filing: Shell Negotiated Rate 11/28/18 to be effective 11/28/2018.

Filed Date: 11/14/18.

Accession Number: 20181114-5096.

Comments Due: 5 p.m. ET 11/26/18.

Docket Numbers: RP19-289-000.

Applicants: Southern Star Central Gas Pipeline, Inc.

Description: § 4(d) Rate Filing: Offer and Petition for Approval of Settlement to be effective 1/1/2019.

Filed Date: 11/14/18.

Accession Number: 20181114-5130.

Comments Due: 5 p.m. ET 11/26/18.

Docket Numbers: RP19-290-000.

Applicants: Southern Natural Gas Company, L.L.C.

Description: Compliance filing Annual Report on Operational Transactions 2018.

Filed Date: 11/15/18.

Accession Number: 20181115-5012.

Comments Due: 5 p.m. ET 11/27/18.

Docket Numbers: RP19-291-000.

Applicants: Discovery Gas Transmission LLC.

Description: § 4(d) Rate Filing: 2019 HMRE Surcharge Filing to be effective 1/1/2019.

Filed Date: 11/15/18.

Accession Number: 20181115-5047.

Comments Due: 5 p.m. ET 11/27/18.

Docket Numbers: RP19-292-000.

Applicants: Midwestern Gas Transmission Company.

Description: § 4(d) Rate Filing: Gas Quality and Pressure to be effective 12/15/2018.

Filed Date: 11/15/18.

Accession Number: 20181115-5069.

Comments Due: 5 p.m. ET 11/27/18.

Docket Numbers: RP19-293-000.

Applicants: Northern Natural Gas Company.

Description: § 4(d) Rate Filing: 20181115 Negotiated Rates to be effective 11/1/2018.

Filed Date: 11/15/18.

Accession Number: 20181115-5102.

Comments Due: 5 p.m. ET 11/27/18.

Docket Numbers: RP19-294-000.

Applicants: Centra Pipelines Minnesota Inc.

Description: eTariff filing per 1430: Extension of time to be effective 12/31/9998.

Filed Date: 11/15/18.

Accession Number: 20181115-5109.

Comments Due: 5 p.m. ET 11/19/18.

Docket Numbers: RP19-295-000.

Applicants: EOG Resources, Inc., EOG Y Resources, Inc., EOG A Resources, Inc., EOG M Resources, Inc.

Description: Request for Temporary Waiver, et al. of EOG Resources, Inc., et al. under RP19-295.

Filed Date: 11/15/18.

Accession Number: 20181115-5131.

Comments Due: 5 p.m. ET 11/23/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2018.
Nathaniel J. Davis, Sr.,
Deputy Secretary.

[FR Doc. 2018-25753 Filed 11-26-18; 8:45 am]

BILLING CODE 6717-01-P